DEPARTMENT OF TRANSPORTATION

Federal Aviation Administration

RTCA Special Committee 202: Portable Electronic Devices

AGENCY: Federal Aviation Administration (FAA), DOT.

ACTION: Notice of RTCA Special Committee 202 Portable Electronic Devices meeting.

SUMMARY: The FAA is issuing this notice to advise the public of a meeting of RTCA Special Committee 202: Portable Electronic Devices.

DATES: The meeting will be held on July 5-8, 2005 from 9 a.m. to 4:30 p.m.

ADDRESSES: The meeting will be held at Transport Canada, Boardrooms 027-030, Tower C, Place de Ville, 330 Sparks Street, Ottawa, Ontario, Canada.

FOR FURTHER INFORMATION CONTACT: RTCA Secretariat, 1828 L Street, NW., Suite 805, Washington, DC 20036-5133; telephone (202) 833-9339; fax (202) 833-9434; Web site http//www.rtca.org.

SUPPLEMENTARY INFORMATION: Pursuant to section 10(a)(2) of the Federal Advisory Committee Act (Pub. L. 92-463, 5 U.S.C., Appendix 2), notice is hereby given for a Special Committee 202 Portable Electronic Devices meeting. The agenda will include:

• July 5 and July 8:

• Working Groups (WG) 1 through 4 meet.

• WG-1, PED Characterization, boardroom 027

• WG-2, Aircraft Path Loss and Test, boardroom 028

• WG-3, Aircraft Susceptibility, boardroom 029

• WG-4, Risk Assessment, Mitigation, and process, boardroom 030

• July 6:

• Opening Plenary Session (Welcome and Introductory Remarks, Review Agenda, Review/Approve previous Common Plenary Summary, Review Open Action Items)

• Update from CEA PEDs Working Group

• Update from Regulatory Agencies (FAA, UK-CAA, Canadian TSB, or other members present)

• Report on CRJ testing by WG-2 and Air Wisconsin

• Transport Canada PED approval process experience: DO-294 versus testing by Yehia Elghawaby of Transport Canada

• “Where did the values in Table 6-1 come from?” by Chuck LaBerge of Honeywell

• RF Emissions Testing: FRID Tags, GSM Mobile Phones, and WLAN by Bruce Donham of Boeing

• Backdoor Coupling Airplane test proposal by Robert Kebel of Airbus

• Connexion by Boeing plan for allowance of cellphone operations work by Frank Whetten of Connexion

• Phase 2 work break out sessions for work groups

• July 7:

• Opening Remarks and Process Check

Working Groups Report out on (Phase 2 work statement, Revision of Terms of Reference (TOR), Revisions to committee structure, work plan for Phase 2, and schedule for Work Plan)

WG-1(PEDs characterization, test and evaluation)

WG-2 (Aircraft test and analysis)

WG-3 (Aircraft systems susceptibility)

Proposal for assessing aircraft systems susceptibility to Phase 2 technologies.

WG-4 (Risk Assessment, Practical application, and final documentation)

Collaboration with EUROCAE WG58

Proposal for completion of Phase 2 document

Potential to complete a first draft simplified process early—end of 2005 or early 2006

Human Factors sub-group

Phase 2 work statement, committee structure, work plan, and schedule planning

Closing Session (Other Business, Date and Place of Next Meeting (October 11-13, 2005 Twelfth Plenary at RTCA, January 24-26 Thirteenth Plenary at RTCA, Closing Remarks, Adjourn)

Working Groups to complete action items and Phase 2 work planning.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 13, 2005.
Natalie Ogletree,
FAA General Engineer, RTCA Advisory Committee.

[FR Doc. 05-12144 Filed 6-20-05; 8:45 am]

BILLING CODE 4910-13-M